OFFICE OF THE UNITED STATES TRADE REPRESENTATIVE

Determination of Chile's Trade Surplus in Sugar and Certain Sugar Containing Products

AGENCY: Office of the United States Trade Representative.

ACTION: Notice.

SUMMARY: Pursuant to U.S. Note 12(a) to subchapter XI of chapter 99 of the Harmonized Tariff Schedule of the United States (HTS), the Office of the United States Trade Representative (USTR) is providing notice of its determination that Chile does not have a trade surplus in sugar, sugar-containing products, and high fructose corn syrup.

EFFECTIVE DATE: Date of publication in the Federal Register.

ADDRESSES: Inquiries may be mailed or delivered to Sharon Sydow, Director of Agriculture Trade Policy, Office of Agricultural Affairs, Office of the United States Trade Representative, 600 17th Street, NW., Washington, DC 20508.

FOR FURTHER INFORMATION CONTACT: Sharon Sydow, Office of Agricultural Affairs, 202-395-6127.

SUPPLEMENTARY INFORMATION: Pursuant to section 201 of the United States-Chile Free Trade Agreement Implementation Act (Pub. L. 108-77; 117 Stat. 909, 913; 19 U.S.C. 3805 note), Presidential Proclamation No. 7746 of December 30, 2003 (68 FR 75789), implemented on behalf of the United States the United States-Chile Free Trade Agreement (FTA) and modified the HTS to reflect therein the tariff and rules of origin treatment provided for in the FTA.

Pursuant to U.S. Note 12(a) to subchapter XI of HTS chapter 99, beginning in 2004 and annually thereafter, USTR is required to publish in the Federal Register a determination of the amount of Chile's trade surplus, by volume, with all sources for goods in Harmonized System (HS) subheadings 1701.11, 1701.12, 1701.91, 1701.99, 1702.20, 1702.30, 1702.40, 1702.60, 1701.90, 1806.10, 2101.12, 2101.20, and 2106.90, except that Chile's imports of U.S. goods under HS subheadings 1702.40 and 1702.60 that qualify for preferential treatment under the FTA may not be included in the calculation of Chile's trade surplus. During calendar year 2003, the most recent year for which data is available, Chile's imports of the foregoing goods exceeded its exports by 186,269.7 metric tons according to data published by its customs authority, the Servicio Nacional de Aduana. Accordingly, based on this data, USTR determines that Chile's trade surplus for 2004 is negative.

Allen F. Johnson,
Chief Agricultural Negotiator.

[FR Doc. 04-17474 Filed 7-30-04; 8:45 am]

BILLING CODE 3190-W4-M